DEPARTMENT OF HOMELAND SECURITY

Federal Emergency Management Agency

44 CFR Part 67

[Docket No. FEMA-B-7714]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) +Elevation in feet (NAVD): Existing | #Depth in feet above ground. *Elevation in feet (NGVD) +Elevation in feet (NAVD): Modified
Kaycee, Wyoming
WY | Town of Kaycee | North Fork Powder River | Approximately 5,150 feet downstream from Highway 196—at the downstream corporate limits of Kaycee, Wyoming | None | +4639
|  |  | Approximately 180 feet downstream from I-25 North—at the upstream corporate limits of Kaycee, Wyoming | None | +4656
*National Geodetic Vertical Datum.
+North American Vertical Datum.
# Depth in feet above ground.
ADDRESSES
Town of Kaycee
Maps are available for inspection at PO Box 265, Kaycee, Town of, WY 82639.
Send comments to Allen Streeter, Mayor, 414 Park Street, Kaycee, WY 82639.

Flooding source(s) | Location of referenced elevation | *Elevation in feet (NGVD) + Elevation in feet (NAVD) # Depth in feet above ground: Effective | *Elevation in feet (NGVD) + Elevation in feet (NAVD) # Depth in feet above ground: Modified | Communities affected
DeKalb County, Alabama, and Incorporated Areas
Big Wills Creek | Approximately 7,000 feet downstream of confluence with Little Wills Creek | None | +672 | Town of Collinsville, De Kalb County (Unincorporated Areas).
| Approximately 10,000 feet upstream of confluence with Little Wills Creek | None | +680
| Confluence with Davis Gap Creek | None | +783
| Approximately 2,000 feet upstream of confluence with Davis Gap Creek | None | +786
| Approximately 2,500 feet upstream of confluence with Hammond Branch | None | +963
| Approximately 5,000 feet upstream of confluence with Hammond Branch | None | +980
Davis Gap Creek | Confluence with Big Wills Creek | None | +783 | De Kalb County (Unincorporated Areas).
| Approximately 1,500 feet upstream of confluence with Big Wills Creek | None | +786
Ivy Creek | Confluence with Town Creek | None | +1152 | De Kalb County (Unincorporated Areas).
| Approximately 1,000 feet upstream of confluence with Town Creek | None | +1154
Little Wills Creek | Confluence with Big Wills Creek | None | +674 | Town of Collinsville, De Kalb County (Unincorporated Areas).
| Church Avenue Crossing | None | +710
| Approximately 1,500 feet upstream of SR 68 Crossing | None | +734
| Approximately 2,500 feet upstream of SR 68 Crossing | None | +738
Little Wills Creek Tributary | Approximately 5,000 feet upstream of confluence with Little Wills Creek | None | +729 | Town of Collinsville.
| Approximately 5,700 feet upstream of confluence with Little Wills Creek | None | +731
Little Wills Valley Branch | Approximately 2,500 feet downstream of 41st Street South Crossing | None | +839 | De Kalb County (Unincorporated Areas).
| Approximately 2,000 feet downstream of 41st Street South Crossing | None | +843
Phillips Branch | Approximately 200 feet upstream of South Sauty Creek | None | +1166 | City of Rainsville, De Kalb County (Unincorporated Areas).
| Approximately 1,000 feet upstream of South Sauty Creek | None | +1171
Piney Creek | Approximately 7,000 feet downstream of Horton Road Crossing | None | +1199 | City of Rainsville, Town of Shiloh, De Kalb County (Unincorporated Areas).
| Confluence with Piney Creek Tributary | None | +1215
Town Creek | Approximately 1,000 feet upstream of confluence with Bynum Mill Branch | None | +1124 | City of Rainsville, De Kalb County (Unincorporated Areas).
| Approximately 2,000 feet upstream of SR 35 Crossing | None | +1175
* National Geodetic Vertical Datum.
+ North American Vertical Datum.
# Depth in feet above ground.
ADDRESSES
City of Rainsville
Maps are available for inspection at 70 McCurdy Avenue, Rainsville, AL 35988.
Send comments to The Honorable Donnie Chandler, Mayor, City of Rainsville, P.O. Box 309, Rainsville, AL 35986.
Town of Collinsville
Maps are available for inspection at 39 Post Office Street, Collinsville, AL 35961.
Send comments to The Honorable Jimmy Carter, Mayor, Town of Collinsville, P.O. Box N, Collinsville, AL 35961.
Town of Hammondville
Maps are available for inspection at 37699 U.S. Highway 11, Hammondville, AL 35989.
Send comments to The Honorable Larry Watson, Mayor, Town of Hammondville, P.O. Box 329, Valley Head, AL 35989.
Town of Shiloh
Maps are available for inspection at 111 Grand Avenue, Suite 200, Fort Payne, AL 35967.
Send comments to The Honorable Charles D. Liles, Mayor, Town of Shiloh, P.O. Box 924, Rainsville, AL 35986.
De Kalb County (Unincorporated Areas)
Maps are available for inspection at 111 Grand Avenue, Suite 200, Fort Payne, AL 35967.
Send comments to The Honorable Sid Holcomb, Chairman, DeKalb County, 111 Grand Avenue, Suite 200, Fort Payne, AL 35967.
Etowah County, Alabama, and Incorporated Areas
Coosa River | St. Clair County Line | None | +511 | City of Southside.
| Approximately 25,000 feet upstream of SR 77 Crossing | None | +516
| Approximately 1,000 feet downstream of confluence with Big Cove Creek | None | +524
| Approximately 35,000 feet upstream of confluence with Big Cove Creek | None | +529
Greenway Creek | Hooke Street Crossing | None | +523 | City of Gadsden.
| Springfield Avenue Crossing | None | +530
Little Cove Creek | U.S. 278 Crossing | None | +524 | Town of Hokes Bluff.
| Approximately 6,000 feet upstream of U.S. 278 Crossing | None | +524
Locust Fork of Black Warrior River | Approximately 7,500 feet downstream of Payne Branch | None | +821 | Town of Walnut Grove, Etowah County (Unincorporated Areas).
| Approximately 1,000 feet upstream of Payne Branch | None | +827
Payne Branch | Confluence with Locust Fork of Black Warrior River | None | +824 | Town of Walnut Grove.
| Ashville Road Crossing | None | +836
Town Creek | Approximately 3,000 feet upstream of Tuscaloosa Avenue Crossing | None | +544 | Etowah County (Unincorporated Areas), City of Gadsden.
| Approximately 4,400 feet upstream of Tuscaloosa Avenue Crossing | None | +554
* National Geodetic Vertical Datum.
+ North American Vertical Datum.
# Depth in feet above ground.
ADDRESSES
City of Gadsden
Maps are available for inspection at 90 Broad Street, Gadsden, AL 35901.
Send comments to The Honorable Steve Means, Mayor, City of Gadsden, 90 Broad Street, Gadsden, AL 35901.
City of Southside
Maps are available for inspection at 2255 Highway 77, Southside, AL 35907.
Send comments to The Honorable Wally Burns, Mayor, City of Southside, 2255 Highway 77, Southside, AL 35907.
Town of Hokes Bluff
Maps are available for inspection at 3301 Alford Bend Road, Hokes Bluff, AL 35903.
Send comments to The Honorable Tim Langdale, Mayor, Town of Hokes Bluff, 3301 Alford Bend Road, Hokes Bluff, AL 35903.
Town of Walnut Grove
Maps are available for inspection at 4012 Gadsden-Blountsville Road, Walnut Grove, AL 35990.
Send comments to The Honorable Autry Works, Mayor, Town of Walnut Grove, 4012 Gadsden-Blountsville Road, Walnut Grove, AL 35990.
Unincorporated Areas of Etowah County
Maps are available for inspection at 800 Forrest Avenue, Gadsden, AL 35901.
Send comments to The Honorable Tim N. Choate, Chairman, Etowah County Commission, 800 Forrest Avenue, Gadsden, AL 35901.
Geneva County, Alabama, and Incorporated Areas
Carter Mill Creek | Approximately 3,300 feet upstream of Bellwood Highway Crossing | None | +111 | Geneva County (Unincorporated Areas)
| Approximately 6,200 feet upstream of Bellwood Highway Crossing | None | +119
Choctawhatchee River | Approximately 1,500 feet downstream of confluence with Pea River | None | +99 | City of Geneva, Town of Eunola, Geneva County (Unincorporated Areas).
| Approximately 200 feet upstream of confluence with Schuttle Mill Creek | None | +105
Double Bridges Creek | City of Geneva Corporate Limits | None | +102 | Geneva County (Unincorporated Areas)
| Approximately 1,200 feet upstream of City of Geneva Corporate Limits | None | +102
Pea River | Approximately 7,000 feet upstream of SR 27 Crossing | None | +102 | Geneva County (Unincorporated Areas).
| Approximately 10,000 feet upstream of SR 27 Crossing | None | +102
Threemile Branch | Approximately 3,800 feet upstream of confluence with Pea River | None | +101 | Geneva County (Unincorporated Areas).
| Approximately 6,600 feet upstream of confluence with Pea River | None | +113
* National Geodetic Vertical Datum.
+ North American Vertical Datum.
# Depth in feet above ground.
ADDRESSES
City of Geneva
Maps are available for inspection at 517 S. Commerce Street, Geneva, AL 36340.
Send comments to The Honorable Karen Simmons, Mayor, City of Geneva, 517 S. Commerce Street, Geneva, AL 36340.
Town of Eunola
Maps are available for inspection at 200 S. Commerce Street, Geneva, AL 36340.
Send comments to The Honorable Ruben Hughes, Mayor, Town of Eunola, Route One, Box 310, Geneva, AL 36340.
Geneva County (Unincorporated Areas)
Maps are available for inspection at 200 S. Commerce Street, Geneva, AL 36340.
Send comments to The Honorable Judge Harry O. Adkison, Chairman, Geneva County, 200 S. Commerce Street, Geneva, AL 36340.
Breathitt County, Kentucky, and Incorporated Areas
North Fork Kentucky River | Approximately 7.43 miles downstream of the confluence with Frozen Creek near Cy Bend | None | +717 | Breathitt County (Unincorporated Areas), City of Jackson.
| Approximately 2.83 miles upstream of the Robinson Road Bridge at Quick Sand | None | +754
PanBowl Lake | Kentucky 15 Crossing | None | +732 | Breathitt County (Unincorporated Areas), City of Jackson.
| Kentucky 1812 Crossing | None | +732
* National Geodetic Vertical Datum.
+ North American Vertical Datum.
# Depth in feet above ground.
ADDRESSES
City of Jackson
Maps are available for inspection at 1137 Main Street, Jackson, KY 41339. Send comments to The Honorable Michael D. Miller, Mayor, City of Jackson, 333 Broadway Street, Jackson, KY 41339.
Breathitt County (Unincorporated Areas)
Maps are available for inspection at 1137 Main Street, Jackson, KY 41339.
Send comments to The Honorable H.J. Richardson, Breathitt County Judge Executive, 1137 Main Street, Jackson, KY 41339.
Osage County, Oklahoma, and Incorporated Areas
Bird Creek | Approximately 5,250 feet upstream from power line right-of-way | *649 | +646 | Osage County (Unincorporated Areas).
| Approximately 8750 feet upstream from power line right-of-way | *650 | +648
Eliza Creek | Approximately 4,000 ft upstream from CR-2708 | None | +695 | City of Bartlesville.
| Approximately 750 feet southwest intersection of Highway 60 and Highway 123 | None | +702
Euchee Creek | Approximately 8,250 feet downstream from confluence with Euchee Creek Tributary (County Boundary) | *691 | +690 | Osage County (Unincorporated Areas).
| Approximately 2,000 feet upstream of Unnamed Dirt Road | None | +791
Euchee Creek Tributary | Confluence with Euchee Creek | *699 | +700 | Osage County (Unincorporated Areas).
| Approximately 1050 feet upstream of intersection with North Willow Creek Road | *719 | +720
Shell Creek | Approximately 1,600 feet downstream of North 161 St. West Avenue | None | +661 | Osage County (Unincorporated Areas).
| Confluence with UT 3 Shell Creek | None | +677
UT 1 to Shell Creek | Confluence with Shell Creek | None | +668 | Osage County (Unincorporated Areas).
| Approximately 1820 feet upstream of Private Road | None | +805
UT 1 to UT to Horsepin Creek | Approximately 3000 feet south of intersection of 166th Street and Railroad | *640 | +638 | Osage County (Unincorporated Areas).
| Approximately 375 feet south of intersection of 166th Street and Railroad | None | +644
UT 3 to Shell Creek | Confluence with Shell Creek | None | +677 | Osage County (Unincorporated Areas).
| Approximately 500 ft downstream of Shell Lake Dam | None | +693
UT 4 to Shell Creek | Confluence with Shell Creek | None | +668 | Osage County (Unincorporated Areas).
| Approximately 4000 feet of confluence with Shell Creek | None | +673
UT to West Big Heart Creek | 4,000 feet downstream of mouth of creek (County Line) | None | +695 | City of Sand Springs.
| 2,750 feet downstream of mouth of creek | None | +790
West Big Heart Creek (Formerly Blackboy Creek) | Approximately 10,500 feet downstream of mouth of creek (County Line) | *719 | +722 | Osage County (Unincorporated Areas).
| Approximately 8,000 feet downstream of mouth of creek | *792 | +793
* National Geodetic Vertical Datum.
+ North American Vertical Datum.
# Depth in feet above ground.
ADDRESSES
City of Bartlesville
Maps are available for inspection at 401 South Johnston Ave., Bartlesville, OK 74003.
Send comments to The Honorable Julie Daniels, Mayor, City of Bartlesville, 401 South Johnston Ave., Bartlesville, OK 74003.
City of Sand Springs
Maps are available for inspection at P.O. Box 338, Sand Springs, OK 74063.
Send comments to The Honorable Robert Walker, Mayor, City of Sand Springs, P.O. Box 338, Sand Springs, OK 74063.
Osage County (Unincorporated Areas)
Maps are available for inspection at 628 Kinekah, Pawhuska, OK 74056-0087.
Send comments to Board of County Commissioners, 628 Kinekah, Pawhuska, OK 74056.
Spartanburg County, South Carolina and Incorporated Areas
Abners Creek | Confluence with Enoree River | None | +704 | Spartanburg County, (Unincorporated Areas), City of Greer.
| Approximately 150 feet upstream of Freeman Farm Road | None | +870
Alexander Creek | Confluence with South Pacolet River (William C. Bowen Lake) | None | +825 | Spartanburg County (Unincorporated Areas).
| Approximately 2,010 feet upstream of Page Road | None | +844
Tributary 1 | Confluence with Alexander Creek | None | +838 | Spartanburg County (Unincorporated Areas).
| Approximately 1,620 upstream of Walnut Hill Church Road | None | +855
Beaverdam Creek (East) | Just upstream of Old Canaan Road | None | +619 | Spartanburg County (Unincorporated Areas).
| Approximately 300 feet upstream of Church Street | None | +677
Tributary 1 | Confluence with Beaverdam Creek (East) | None | +637 | Spartanburg County (Unincorporated Areas).
| Approximately 400 feet upstream of Church Street | None | +676
Beaverdam Creek (West) | Confluence with Middle Tyger River | None | +817 | Spartanburg County (Unincorporated Areas).
| Approximately 2 miles upstream of Highway 357 | None | +834
Big Ferguson Creek | Approximately 820 feet upstream of confluence with Ferguson Creek | *575 | +576 | Spartanburg County (Unincorporated Areas).
| Approximately 5,190 feet upstream of Wofford Road | None | +662
Browns Branch | Confluence with Pacolet River | None | +481 | Spartanburg County (Unincorporated Areas).
| Approximately 960 feet upstream of Short Drive | None | +496
Buck Creek | Confluence with Pacolet River | None | +709 | Spartanburg County (Unincorporated Areas).
| Approximately 4,950 feet upstream of Cherokee Foothills Scenic Highway | None | +808
Buffalo Creek | Approximately 100 feet upstream of confluence with Fairforest Creek | None | +574 | Spartanburg County (Unincorporated Areas).
| Approximately 1.2 miles upstream of Steward Road | None | +618
Casey Creek | Confluence with Pacolet River | None | +709 | Spartanburg County (Unincorporated Areas).
| Approximately 2,290 feet upstream of Overcreek Road | None | +824
Cedar Shoals Creek | Approximately 620 feet downstream of Horseshoe Falls Road | None | +406 | Spartanburg County (Unincorporated Areas).
| Approximately 1.5 miles upstream of Browning Road | None | +539
Cherokee Creek | Approximately 70 feet downstream of Cherokee Circle | None | +713 | Spartanburg County (Unincorporated Areas).
| Approximately 1,040 feet upstream of Cherokee Circle | None | +713
Chinquepin Creek | Approximately 100 feet upstream of Chesnee Highway | None | +719 | Spartanburg County (Unincorporated Areas).
| Approximately 920 feet upstream of Chesnee Highway | None | +726
Dildine Creek | Confluence with Enoree River | None | +560 | Spartanburg County (Unincorporated Areas).
| Approximately 4,580 feet upstream of confluence with Enoree River | None | +563
Dillard Creek | Confluence with Enoree River | None | +708 | Spartanburg County (Unincorporated Areas).
| Approximately 4,540 feet upstream of confluence with Enoree River | None | +715
Dutchman Creek | Approximately 1 mile downstream of Tucker Road | None | +481 | Spartanburg County (Unincorporated Areas).
| Approximately 2,370 feet upstream of Walnut Grove Pauline Road | None | +645
Enoree River | Approximately 4.3 miles downstream of Interstate 26 | None | +401 | Spartanburg County (Unincorporated Areas).
| Approximately 125 feet upstream of State Highway 14 | None | +748
Tributary 1 | Confluence with Enoree River | None | +698 | Spartanburg County (Unincorporated Areas).
| Approximately 1,690 feet upstream of Sharon Church Road | None | +790
Fairforest Creek | Approximately 80 feet downstream of Glen Springs Road | None | +491 | Spartanburg County (Unincorporated Areas), City of Spartanburg.
| Approximately 100 feet downstream of Interstate 85 | None | +844
Tributary 1 | Confluence with Fairforest Creek | None | +497 | Spartanburg County (Unincorporated Areas).
| Approximately 1.3 miles upstream of confluence with Fairforest Creek | None | +525
Tributary 2 | Approximately 50 feet upstream of Fairforest Creek | None | +574 | Spartanburg County (Unincorporated Areas).
| Approximately 1,320 feet upstream of West Road | None | +656
Tributary 3 | Approximately 300 feet upstream of confluence with Fairforest Creek | None | +614 | Spartanburg County (Unincorporated Areas).
| Approximately 3,630 feet upstream of confluence with Fairforest Creek | None | +631
Fawn Branch | Just upstream of Old Furnace Road | None | +807 | Spartanburg County (Unincorporated Areas).
| Approximately 870 feet upstream of Old Furnace Road | None | +810
Tributary 1 | Just upstream of Old Furnace Road | None | +807 | Spartanburg County (Unincorporated Areas).
| Approximately 2,640 feet upstream of Clark Road | None | +883
Tributary 2 | Confluence with Fawn Branch Tributary 1 | None | +826 | Spartanburg County (Unincorporated Areas).
| Approximately 440 feet upstream of State Highway 9 | None | +873
Ferguson Creek | Approximately 190 feet downstream of Old Spartanburg Highway | None | +627 | Spartanburg County (Unincorporated Areas).
| Approximately 1,990 feet upstream of Old Spartanburg Highway | None | +638
Fleming Branch | Confluence with Fairforest Creek | None | +566 | Spartanburg County (Unincorporated Areas).
| Approximately 2,200 feet upstream of confluence with Fairforest Creek | None | +576
Foster Creek | Approximately 330 feet upstream of Twin Oaks Road | None | +607 | Spartanburg County (Unincorporated Areas).
| Approximately 1.4 miles upstream of Old Canaan Road | None | +659
Tributary 1 | Confluence with Foster Creek | None | +636 | Spartanburg County (Unincorporated Areas).
| Approximately 4,000 feet upstream of confluence with Foster Creek | None | +748
Fourmile Branch | Just upstream of Country Club Rd | *631 | +632 | Spartanburg County (Unincorporated Areas).
| Approximately 2,810 feet upstream of Pine Street | None | +734
Halfway Branch Tributary 1 | Approximately 600 feet upstream of confluence of Halfway Branch | None | +680 | City of Spartanburg.
| Approximately 2,150 feet upstream of confluence with Halfway Branch Tributary 1 | None | +708
Halfway Branch Tributary 1 | Just downstream of Blackwood Drive | None | +686 | Spartanburg County (Unincorporated Areas), City of Spartanburg.
| Approximately 700 feet upstream of Perin Drive | None | +722
Island Creek | Confluence with Pacolet River | None | +655 | Spartanburg County (Unincorporated Areas).
| Approximately 2,000 feet upstream of Cemetery Road | None | +804
Jamison Mill Creek | Confluence with South Pacolet River | None | +878 | Spartanburg County (Unincorporated Areas).
| Approximately 1.4 miles upstream of Spivey Creek Road | None | +920
Jimmies Creek (North) | Just upstream of Freys Drive | None | +665 | Spartanburg County (Unincorporated Areas).
| Approximately 2,190 upstream of Tucapau Road | None | +789
Jimmies Creek (South) | Confluence with North Tyger River | None | +440 | Spartanburg County (Unincorporated Areas), Town of Woodruff
| Approximately 1,550 feet upstream of Georgia Road | None | +696
Tributary 1 | Confluence with Jimmies Creek (South) | None | +444 | Spartanburg County (Unincorporated Areas).
| Approximately 5,070 feet upstream of confluence with Jimmies Creek (South) | None | +470
Kelsey Creek | Confluence with Fairforest Creek | None | +524 | Spartanburg County (Unincorporated Areas).
| Approximately 4,900 feet upstream of confluence with Thompson Creek | None | +555
Lawsons Fork Creek | Just upstream of Meadow Farm Road | None | +802 | Spartanburg County (Unincorporated Areas).
| Approximately 2,320 feet upstream of Park Street | None | +937
Tributary 1 | Approximately 850 feet upstream of confluence with Lawsons Fork Creek | None | +656 | City of Spartanburg.
| Approximately 3,890 feet upstream of Woodburn Road | None | +701
Tributary 3 | Approximately 900 feet upstream of Lawsons Fork Creek | *778 | +779 | Spartanburg County (Unincorporated Areas).
| Approximately 2,120 feet upstream of Honeysuckle Road | None | +828
Tributary 4 | Just upstream of River Forest Rd | None | +787 | Spartanburg County (Unincorporated Areas).
| Approximately 400 feet upstream of Lyman Road | None | +864
Lick Creek | Confluence with Enoree River | None | +567 | Spartanburg County (Unincorporated Areas).
| Approximately 425 feet upstream of Allen Bridge Road | None | +581
Little Buck Creek | Confluence with Buck Creek | None | +712 | Spartanburg County (Unincorporated Areas).
| Approximately 280 feet upstream of Cherokee Street | None | +841
Maple Creek | Just upstream of New Woodruff Road | None | +854 | Spartanburg County (Unincorporated Areas), City of Greer.
| Approximately 85 feet downstream of Acron Drive | None | +866
McElwain Creek | Approximately 3,266 feet downstream of Yard Road | None | +495 | Spartanburg County (Unincorporated Areas).
| Approximately 230 feet upstream of Yard Road | None | +499
Meadow Creek | Approximately 500 feet upstream of confluence with Lawson's Fork Creek | *802 | +803 | Spartanburg County (Unincorporated Areas).
| Approximately 1,360 feet upstream of Interstate 26 | None | +849
Tributary 1 | Confluence with Meadow Creek | None | +823 | Spartanburg County (Unincorporated Areas).
| Approximately 3,380 feet upstream of Spring Valley Road | None | +837
Middle Tyger River | Just upstream of Spartex Dam | None | +733 | Spartanburg County (Unincorporated Areas), Town of Duncan, Town of Lyman.
| Approximately 250 feet upstream of Sloan Road | None | +859
Tributary 1 | Approximately 1,800 feet upstream of confluence with Middle Tyger River | *615 | +616 | Spartanburg County (Unincorporated Areas).
| Approximately 5,040 feet upstream of confluence with Middle Tyger River | None | +629
Motlow Creek | Confluence with South Pacolet River | None | +826 | Spartanburg County (Unincorporated Areas), Town of Campobello.
| Approximately 740 feet upstream of Macedonia Church Road | None | +943
North Pacolet River | Confluence with Pacolet River | None | +723 | Spartanburg County (Unincorporated Areas).
| Approximately 4,030 feet upstream of Landrum Road | None | +837
North Tyger River | Approximately 3,340 feet downstream of Highway 56 | None | +421 | Spartanburg County (Unincorporated Areas).
| Approximately 2.2 miles upstream of Interstate 26 | None | +583
Tributary 1 | Just downstream of Interstate 26 | None | +594 | Spartanburg County (Unincorporated Areas).
| Approximately 1.4 miles upstream of Stillhouse Road | None | +672
Tributary 2 | Approximately 1,780 feet upstream of confluence with North Tyger River | *665 | +666 | Spartanburg County (Unincorporated Areas).
| Approximately 260 feet upstream of US Highway 29 | None | +748
Tributary 3 | Approximately 900 feet upstream of confluence with North Tyger River | None | +736 | Spartanburg County (Unincorporated Areas), Town of Lyman.
| Approximately 1.6 miles upstream of Holly Springs Road | None | +898
Obed Creek | Confluence with North Pacolet River | None | +737 | Spartanburg County (Unincorporated Areas).
| Approximately 4,100 upstream of Burnt Chimney Road | None | +879
Pacolet River | Approximately 2.4 miles downstream of Chapel Drive | None | +476 | Spartanburg County (Unincorporated Areas).
| Confluence of North Pacolet River and South Pacolet River | None | +723 | Town of Pacolet.
Tributary 1 | Confluence with Pacolet River | None | +632 | Spartanburg County (Unincorporated Areas).
| Approximately 290 feet upstream of Church Street | None | +765
Tributary 2 | Confluence with Pacolet River | None | +716 | Spartanburg County (Unincorporated Areas).
| Approximately 5,140 feet upstream of Fairfield Road | None | +875
Peters Creek | Confluence with Pacolet River | None | +630 | Spartanburg County (Unincorporated Areas).
| Approximately 210 feet downstream of Jones Road | None | +796
Ransom Creek | Approximately 1,120 feet upstream of confluence with North Tyger River | *610 | +611 | Spartanburg County (Unincorporated Areas).
| Approximately 1,050 feet upstream of Schirra Court | None | +732
Tributary 1 | Confluence with Ransom Creek | None | +614 | Spartanburg County (Unincorporated Areas).
| Approximately 460 feet upstream of Interstate 26 | None | +640
Reedy Creek | Approximately 100 feet downstream of Old Canaan Road | None | +624 | Spartanburg County (Unincorporated Areas).
| Approximately 230 feet upstream of McAbee Road | None | +667
Richland Creek | Confluence with South Pacolet River | None | +785 | Spartanburg County (Unincorporated Areas).
| Approximately 1.3 miles upstream of Hickory Nut Drive | None | +832
Richland Creek East | Confluence with Pacolet River | None | +539 | Unincorporated Areas of Spartanburg County (Unincorporated Areas).
| Approximately 4,970 feet upstream of confluence with Pacolet River | None | +540
Tributary 1 | Confluence with Richland Creek | None | +785 | Spartanburg County (Unincorporated Areas).
| Approximately 2,740 feet upstream of River Oak Road | None | +825
Tributary 2 | Confluence with Richland Creek Tributary 1 | None | +792 | Spartanburg County (Unincorporated Areas).
| Approximately 3,860 feet upstream of confluence with Richland Creek Tributary 1 | None | +810
Tributary 3 | Confluence with Richland Creek | None | +785 | Spartanburg County (Unincorporated Areas).
| Approximately 570 feet upstream of Owens Dive | None | +855
Shoally Creek | Approximately 60 feet downstream of confluence with Shoally Creek Tributary 2 | None | +804 | Spartanburg County (Unincorporated Areas).
| Approximately 4,580 feet upstream of Old Furnace Road | None | +915
Tributary 1 | Approximately 300 feet upstream of confluence with Shoally Creek | None | +752 | Spartanburg County (Unincorporated Areas).
| Approximately 250 feet upstream of Sandifer Road | None | +796
Tributary 2 | Just upstream of confluence with Shoally Creek | None | +804 | Spartanburg County (Unincorporated Areas).
| Approximately 1,730 feet upstream of Burnett Road | None | +875
Tributary 3 | Confluence with Shoally Creek | None | +804 | Spartanburg County (Unincorporated Areas).
| Approximately 150 feet upstream of McMillin Boulevard | None | +850
South Pacolaet River Tributary 2 | Confluence with South Pacolet River Tributary 1 | None | +832 | Spartanburg County (Unincorporated Areas).
| Approximately 2,410 feet upstream of confluence with South Pacolet River Tributary 1 | None | +861
South Pacolet River | Confluence with Pacolet River | None | +723 | Spartanburg County (Unincorporated Areas), Town of Campobello.
| Confluence of Jamison Mill Creek | None | +878
Tributary 1 | Confluence with South Pacolet River | None | +825 | Spartanburg County (Unincorporated Areas).
| Approximately 4,230 feet upstream of Old Mill Road | None | +844
South Tyger River | Confluence with North Tyger River | None | +518 | Spartanburg County (Unincorporated Areas), City of Greer, Town of Duncan.
| Approximately 1.9 miles upstream of Wade Hampton Boulevard | None | +771
Tributary 1 | Confluence with South Tyger River | None | +604 | Spartanburg County (Unincorporated Areas).
| Approximately 2,340 feet upstream of confluence with South Tyger River | None | +612
Spivey Creek | Confluence with South Pacolet River | None | +857 | Spartanburg County (Unincorporated Areas).
| Approximately 140 feet upstream of Spivey Creek Road | None | +876
Thompson Creek (North) | Confluence with Pacolet River | None | +714 | Spartanburg County (Unincorporated Areas).
| Approximately 1.1 miles upstream of Peachtree Road | None | +796
Thompson Creek (South) | Confluence with Kelsey Creek | None | +554 | Spartanburg County (Unincorporated Areas).
| Approximately 1.1 miles upstream of Johnson Lake Road | None | +648
Turkey Hen Branch | Confluence with Pacolet River | None | +565 | Spartanburg County (Unincorporated Areas).
| Approximately 630 feet upstream of Harper Fish Camp Road | None | +646
Twomile Creek | Confluence with Enoree River | None | +485 | Spartanburg County (Unincorporated Areas).
| Approximately 3,990 feet upstream of Parker Road | None | +513
Vines Creek | Confluence with Abners Creek | None | +717 | Spartanburg County (Unincorporated Areas).
| Approximately 1.2 miles upstream of Babe Wood Road | None | +776
Wards Creek | Confluence with North Tyger River | None | +554 | Spartanburg County (Unincorporated Areas).
| Approximately 3,450 feet upstream of Harrison Grove Road | None | +616
Wiley Fork Creek | Confluence with Dutchman Creek | None | +532 | Spartanburg County (Unincorporated Areas).
| Approximately 2,390 feet upstream of confluence with Dutchman Creek | None | +537
Zekial Creek | Confluence with Island Creek | None | +804 | Spartanburg County (Unincorporated Areas).
| Approximately 4,530 feet upstream of confluence with Island Creek | None | +815
* National Geodetic Vertical Datum.
+ North American Vertical Datum.
# Depth in feet above ground.
ADDRESSES
City of Greer
Maps are available for inspection at 106 South Main Street, Greer, SC 29650.
Send comments to Ed Driggers, City Administrator, 106 South Main Street, Greer, SC 29650.
City of Spartanburg
Maps are available for inspection at 145 West Broad Street, Spartanburg, SC 29304.
Send comments to Mark Scott, City Manager, P.O. Box 1749, 145 West Broad Street, Spartanburg, SC 29304.
Town of Campobello
Maps are available for inspection at 208 North Main Street, Campobello, SC 29322.
Send comments to The Honorable Ray Copeland, Mayor, City of Campobello, P.O. Box 8, 208 North Main Street, Campobello, SC 29322.
Town of Duncan
Maps are available for inspection at 153 West Main Street, Duncan, SC 29334.
Send comments to The Honorable John Hamby, Mayor, Town of Duncan, Post Office Drawer 188, 153 West Main Street, Duncan, SC 29334.
Town of Lyman
Maps are available for inspection at 81 Groce Road, Lyman, SC 29365.
Send comments to The Honorable Robert Fogel, Mayor, Town of Lyman, 81 Groce Road, Lyman, SC 29365.
Town of Pacolet
Maps are available for inspection at 180 Montgomery Avenue, Pacolet, SC 29372.
Send comments to The Honorable Elaine Harris, Mayor, Town of Pacolet, P.O. Box 700, 180 Montgomery Avenue, Pacolet, SC 29372.
Town of Woodruff
Maps are available for inspection at 231 E. Hayne Street, Woodruff, SC 29388.
Send comments to Scott Slatton, City Manager, 231 E. Hayne Street, Woodruff, SC 29388.
Spartanburg County (Unincorporated Areas)
Maps are available for inspection at 9039 Fairforest Road, Spartanburg, SC 29301.
Send comments to Glen Breed, County Administrator, 366 N. Church Street, P.O. Box 5666, Spartanburg, SC 29304.
Rutherford County, North Carolina (Broad), and Incorporated Areas
Arrowood Branch | At the confluence with McKinney Creek | None | +708 | Rutherford County (Unincorporated Areas).
| Approximately 0.7 mile upstream of the confluence with McKinney Creek | None | +723
Beaverdam Creek (near State Road 1733) | At the confluence with First Broad River | None | +1,035 | Rutherford County (Unincorporated Areas).
| Approximately 600 feet upstream of Old C C Road (State Road 1731) | None | +1,449
Big Camp Creek | At the confluence with Second Broad River | None | +862 | Rutherford County (Unincorporated Areas).
| Approximately 970 feet upstream of Frog Creek Road | None | +984
Big Horse Creek | At the confluence with Broad River | None | +697 | Rutherford County (Unincorporated Areas).
| Approximately 1.1 miles upstream of State Line Road (State Road 2105) | None | +749
Big Spring Branch | At the confluence with Second Broad River | None | +815 | Town of Forest City.
| Approximately 230 feet downstream of East Trade Street | None | +974
Bills Creek | At the confluence with Cove Creek | None | +868 | Rutherford County (Unincorporated Areas), Town of Lake Lure.
| Approximately 1,300 feet upstream of Shumont Estates Drive | None | +1,206
Tributary 2 | At the confluence with Bills Creek | None | +991 | Rutherford County (Unincorporated Areas).
| Approximately 800 feet upstream of Brookside Parkway | None | +1,243
Tributary 3 | At the confluence with Bills Creek | None | +1,056 | Rutherford County (Unincorporated Areas).
| Approximately 1.4 miles upstream of Bills Creek Road (State Road 1008) | None | +1,239
Bowen Branch | At the confluence with Sandy Run | None | +865 | Rutherford County (Unincorporated Areas).
| Approximately 1,300 feet upstream of Gene Walker Road (State Road 1763) | None | +875
Box Creek | At the confluence with Second Broad River | None | +953 | Rutherford County (Unincorporated Areas).
| Approximately 0.7 mile upstream of the confluence with Second Broad River | None | +1,010
Bracketts Creek | At the confluence with Floyds Creek | None | +781 | Town of Forest City, Rutherford County (Unincorporated Areas).
| Approximately 490 feet upstream of Withrow Road | None | +973
Tributary 5 | At the confluence with Bracketts Creek | None | +902 | Town of Forest City.
| Approximately 0.4 mile upstream of South Church Street | None | +941
Tributary 8 | At the confluence with Bracketts Creek | None | +955 | Town of Forest City.
| Approximately 0.4 mile upstream of Oak Street | None | +980
Brier Creek | At the confluence with First Broad River | None | +962 | Rutherford County (Unincorporated Areas).
| Approximately 1,700 feet upstream of the confluence of Pot Branch | None | +1,120
Broad River | At the Rutherford/Cleveland County boundary | None | +680 | Village of Chimney Rock, Town of Lake Lure, Rutherford County (Unincorporated Areas).
| At the Rutherford/Henderson County boundary | None | +1,411
Tributary 6 | At the confluence with Broad River | None | +694 | Rutherford County (Unincorporated Areas).
| Approximately 1,700 feet upstream of Island Ford Road | None | +697
Buck Branch (into Second Broad River) | At the confluence with Second Broad River | None | +818 | Rutherford County (Unincorporated Areas), Town of Forest City.
| Approximately 300 feet downstream of West Trade Street | None | +949
Buck Branch (into West Fork Sandy Run) | At the Rutherford/Cleveland County boundary | None | +801 | Rutherford County (Unincorporated Areas).
| Approximately 0.7 mile upstream of Rutherford/Cleveland County boundary | None | +820
Buffalo Creek (into Lake Lure) | At the confluence with Broad River | None | +999 | Rutherford County (Unincorporated Areas), Town of Lake Lure.
| Approximately 7.0 miles upstream of confluence with the Broad River | None | +2,818
Tributary 1 | At the confluence with Buffalo Creek (Lake Lure) | None | +1,192 | Rutherford County (Unincorporated Areas), Town of Lake Lure.
| Approximately 2.3 miles upstream of Buffalo Creek Road (State Road 1314) | None | +2,795
Cane Creek | At the confluence with Second Broad River | None | +855 | Rutherford County (Unincorporated Areas).
| At the Rutherford/McDowell County boundary | None | +975
Cane Creek (into Broad River) | At the confluence with Broad River | None | +693 | Rutherford County (Unincorporated Areas).
| Approximately 0.5 mile upstream of the confluence with Broad River | None | +694
Cane Creek (into Lake Lure) | At the confluence with Broad River | None | +999 | Rutherford County (Unincorporated Areas), Town of Lake Lure.
| Approximately 0.5 mile upstream of Girl Scout Camp Road (State Road 1186) | None | +1,355
Catheys Creek | At the confluence with Second Broad River | None | +829 | Rutherford County (Unincorporated Areas).
| Approximately 0.5 mile upstream of Thermal City Road (State Road 1321) | None | +1,051
Tributary 16 | At the confluence with Catheys Creek | None | +872 | Rutherford County (Unincorporated Areas).
| Approximately 0.4 mile upstream of the confluence with Catheys Creek | None | +878
Cedar Creek | At the confluence with Cove Creek | None | +877 | Rutherford County (Unincorporated Areas).
| Approximately 1,200 feet upstream of the confluence of Taylor Creek | None | +1,154
Tributary 3 | At the confluence with Cedar Creek | None | +1,032 | Rutherford County (Unincorporated Areas).
| Approximately 0.9 mile upstream of the confluence with Cedar Creek | None | +1,151
Charles Creek | At the confluence with Cleghorn Creek | None | +755 | Rutherford County (Unincorporated Areas).
| Approximately 0.5 mile upstream of the confluence with Cleghorn Creek | None | +755
Cherry Creek | At the confluence with Catheys Creek | None | +913 | Rutherford County (Unincorporated Areas).
| Approximately 500 feet upstream of Railroad | None | +951
Cleghorn Creek | At the confluence with Broad River | None | +755 | Rutherford County (Unincorporated Areas), Town of Rutherfordton.
| Approximately 0.5 mile upstream of Reece Street | None | +953
Tributary 10 | At the confluence with Cleghorn Creek | None | +865 | Town of Rutherfordton.
| Approximately 50 feet downstream of West 3rd Street | None | +910
Tributary 11 | At the confluence with Cleghorn Creek | None | +868 | Town of Rutherfordton.
| Approximately 20 feet downstream of Laurel Drive | None | +1,041
Tributary 12 | At the confluence with Cleghorn Creek | None | +892 | Town of Rutherfordton.
| Approximately 0.8 mile upstream of the confluence with Cleghorn Creek | None | +988
Tributary 13 | At the confluence with Cleghorn Creek | None | +898 | Town of Rutherfordton.
| Approximately 0.4 mile upstream of North Main Street/U.S. Highway 221 | None | +954
Tributary 7 | At the confluence with Cleghorn Creek | None | +795 | Rutherford County (Unincorporated Areas), Town of Rutherfordton.
| Approximately 1,000 feet upstream of Hugh Street | None | +990
Tributary 9 | At the confluence with Cleghorn Creek | None | +832 | Rutherford County (Unincorporated Areas), Town of Rutherfordton.
| Approximately 150 feet downstream of NC Highway 108 | None | +886
Copper Mine Branch | At the confluence with Morrow Creek | None | +804 | Rutherford County (Unincorporated Areas), Town of Forest City.
| Approximately 800 feet upstream of Fairview Street | None | +953
Cove Creek | At the confluence with Broad River | None | +836 | Rutherford County (Unincorporated Areas).
| Approximately 1.0 mile upstream of Painters Gap Road (State Road 1328) | None | +1,129
Crawley Branch | At the confluence with Big Camp Creek | None | +936 | Rutherford County (Unincorporated Areas).
| Approximately 1,800 feet upstream of the confluence with Big Camp Creek | None | +947
Dills Creek | At the confluence with Broad River | None | +714 | Rutherford County (Unincorporated Areas).
| Approximately 0.8 mile upstream of the confluence with Broad River | None | +716
Duncans Creek | At the Rutherford/Cleveland County boundary | None | +914 | Rutherford County (Unincorporated Areas).
| Approximately 2.2 miles upstream of Duncans Creek Road (State Road 1749) | None | +987
East Branch Mountain Creek | At the confluence with Mountain Creek and West Branch Mountain Creek | None | +823 | Rutherford County (Unincorporated Areas).
| Approximately 350 feet downstream of Piney Knob Road (State Road 1331) | None | +981
First Broad River | Approximately 1,000 feet downstream of the Rutherford/Cleveland County boundary | None | +931 | Rutherford County (Unincorporated Areas).
| Approximately 1,400 feet upstream of Golden Valley Church Road (State Road 1726) | None | +1,110
Floyds Creek | At the confluence with Broad River | None | +699 | Rutherford County (Unincorporated Areas).
| Approximately 500 feet upstream of Sunset Memorial Road (State Road 2179) | None | +941
Frasheur Creek | At the confluence with Greasy Creek | None | +1,125 | Rutherford County (Unincorporated Areas).
| At the Rutherford/McDowell County boundary | None | +1,152
Goodes Creek | At the confluence with Broad River | None | +695 | Rutherford County (Unincorporated Areas).
| Approximately 400 feet upstream of Island Ford Road | None | +695
Grab Branch | At the confluence with Floyds Creek | None | +886 | Rutherford County (Unincorporated Areas).
| Approximately 90 feet downstream of U.S. 221S Highway | None | +943
Tributary 1 | At the confluence with Grab Branch | None | +924 | Rutherford County (Unincorporated Areas).
| Approximately 900 feet upstream of Burch Hutchins Road (State Road 2171) | None | +944
Grays Creek | At the confluence with Broad River | None | +747 | Rutherford County (Unincorporated Areas).
| Approximately 1.1 miles upstream of confluence with Broad River | None | +762
Greasy Creek | At the confluence with Cove Creek | None | +1,125 | Rutherford County (Unincorporated Areas).
| At the Rutherford/McDowell County boundary | None | +1,153
Grog Creek | At the Rutherford/Cleveland County boundary | None | +833 | Rutherford County (Unincorporated Areas).
| Approximately 600 feet upstream of U.S. Highway 74 Bypass | None | +892
Heaveners Creek | At the confluence with Roberson Creek | None | +902 | Rutherford County (Unincorporated Areas).
| Approximately 200 feet downstream of Joe Bostic Road (State Road 1712) | None | +915
Hensons Creek | At the confluence with Broad River | None | +720 | Rutherford County (Unincorporated Areas).
| Approximately 20 feet upstream of County Line Road (State Road 1101) | None | +822
Hills Creek | At the confluence with Second Broad River | None | +722 | Rutherford County (Unincorporated Areas).
| Approximately 290 feet upstream of Dobbins Road | None | +825
Hinton Creek | At the Rutherford/Cleveland County boundary | None | +979 | Rutherford County (Unincorporated Areas).
| Approximately 200 feet upstream of Hinton Creek Road (State Road 1753) | None | +1,054
Holland Creek | At the confluence with Second Broad River | None | +792 | Rutherford County (Unincorporated Areas).
| Approximately 450 feet upstream of Old Caroleen Road (State Road 1901) | None | +807
Hollands Creek | At the confluence with Catheys Creek | None | +836 | Rutherford County (Unincorporated Areas), Town of Ruth, Town of Rutherfordton, Town of Spindale.
| Approximately 1,800 feet upstream of U.S. Highway 221 | None | +950
Tributary 4 | At the confluence with Hollands Creek | None | +909 | Rutherford County (Unincorporated Areas), Town of Ruth.
| Approximately 500 feet upstream of Shady Woods Lane | None | +959
Hunting Creek | At the confluence with Roberson Creek | None | +875 | Rutherford County (Unincorporated Areas).
| Approximately 250 feet upstream of Depriest Road (State Road 1713) | None | +1,067
Jarrets Creek | At the confluence with Broad River | None | +727 | Rutherford County (Unincorporated Areas).
| Approximately 0.5 mile upstream of the confluence with Broad River | None | +744
Knob Creek (into Broad River) | At the confluence with Broad River | None | +816 | Rutherford County (Unincorporated Areas).
| Approximately 800 feet upstream of McEntire Road (State Road 1341) | None | +921
Tributary 11 | At the confluence with Knob Creek (into Broad River) | None | +874 | Rutherford County (Unincorporated Areas).
| Approximately 0.5 mile upstream of Pleasant Grove Road (State Road 1345) | None | +1,070
Tributary 9 | At the confluence with Knob Creek (into Broad River) | None | +862 | Rutherford County (Unincorporated Areas).
| Approximately 0.6 mile upstream of McEntire Road (State Road 1341) | None | +1,006
Little Camp Creek | At the confluence with Big Camp Creek | None | +870 | Rutherford County (Unincorporated Areas).
| Approximately 0.4 mile upstream of Old Morganton Road (State Road 1513) | None | +926
Maple Creek | At the confluence with Mountain Creek | None | +784 | Rutherford County (Unincorporated Areas).
| Approximately 200 feet upstream of U.S. 64/74A Highway | None | +903
McKinney Creek | At the confluence with Broad River | None | +705 | Rutherford County (Unincorporated Areas).
| Approximately 1,500 feet upstream of Ted Smith Road (State Road 1104) | None | +789
Mill Creek (into Catheys Creek) | At the confluence with Catheys Creek | None | +957 | Unincorporated Areas of Rutherford County
| Approximately 0.8 mile upstream of the confluence with Catheys Creek | None | +967
Morrow Creek | At the confluence with Second Broad River | None | +803 | Rutherford County (Unincorporated Areas), Town of Forest City.
| Approximately 0.8 mile upstream of Pine Street (State Road 1903) | None | +873
Mountain Creek | At the confluence with Broad River | None | +758 | Rutherford County (Unincorporated Areas).
| At the confluence with East Branch Mountain Creek and West Branch Mountain Creek | None | +823
Tributary 16 | At the confluence with Mountain Creek | None | +816 | Rutherford County (Unincorporated Areas).
| Approximately 1.0 mile upstream of Clearwater Parkway | None | +954
Mountain Creek Tributary of Tributary 16 | At the confluence with Mountain Creek Tributary 16 | None | +834 | Rutherford County (Unincorporated Areas), Town of Rutherfordton.
| Approximately 700 feet downstream of Thompson Road (State Road 1367) | None | +987
North Fork First Broad River | At the confluence with First Broad River | None | +1,082 | Rutherford County (Unincorporated Areas).
| Approximately 1.5 miles upstream of the confluence of Sally Queen Creek | None | +1,397
Piney Creek | At the confluence with Cedar Creek | None | +895 | Rutherford County (Unincorporated Areas).
| Approximately 310 feet upstream of the confluence of Piney Creek Tributary 1 | None | +982
Tributary 1 | At the confluence with Piney Creek | None | +967 | Rutherford County (Unincorporated Areas).
| Approximately 0.7 mile upstream of Bills Creek Road (State Road 1008) | None | +1,328
Piney Knob Creek | At the confluence with West Branch Mountain Creek | None | +879 | Rutherford County (Unincorporated Areas).
| Approximately 300 feet upstream of Elliott Road (State Road 1348) | None | +908
Pool Creek | At the confluence with Broad River (Lake Lure) | None | +999 | Town of Lake Lure.
| Approximately 1,900 feet upstream of Bottomless Pools Drive | None | +1,122
Pot Branch | At the confluence with Brier Creek | None | +1,102 | Rutherford County (Unincorporated Areas).
| Approximately 2.3 miles upstream of the confluence with Brier Creek | None | +1,415
Puzzle Creek | At the confluence with Second Broad River | None | +804 | Rutherford County (Unincorporated Areas), Town of Bostic.
| Approximately 200 feet upstream of Piney Mountain Church Road (State Road 1007) | None | +893
Reynolds Creek | At the confluence with Hollands Creek | None | +897 | Rutherford County (Unincorporated Areas), Town of Spindale.
| Approximately 0.6 mile upstream of West Street | None | +1,046
Richardson Creek | At the confluence with Broad River | None | +705 | Rutherford County (Unincorporated Areas).
| Approximately 100 feet upstream of Sulphur Springs Church Road (State Road 1135) | None | +807
Roberson Creek | At the confluence with Second Broad River | None | +825 | Rutherford County (Unincorporated Areas), Town of Bostic.
| Approximately 200 feet upstream of Calton Road (State Road 1745) | None | +1,056
Rosy Branch | At the confluence with Taylor Creek | None | +1,962 | Rutherford County (Unincorporated Areas).
| Approximately 1.5 miles upstream of Twin Chimneys Road | None | +2,727
Sally Queen Creek | At the confluence with North Fork First Broad River | None | +1,292 | Rutherford County (Unincorporated Areas).
| Approximately 2.2 miles upstream of the confluence with North Fork First Broad | None | +1,706
Sandy Run | At the Rutherford/Cleveland County boundary | None | +835 | Rutherford County (Unincorporated Areas).
| Approximately 150 feet upstream of Hopewell Road (State Road 1760) | None | +906
Second Broad River | At the confluence with Broad River | None | +680 | Rutherford County (Unincorporated Areas), Town of Forest City.
| Approximately 1.9 miles upstream of Box Creek Road (State Road 1500) | None | +990
Tributary 7 | At the confluence with Second Broad River | None | +750 | Rutherford County (Unincorporated Areas).
| Approximately 1.4 miles upstream of Old Henrietta Road (State Road 2129) | None | +786
Tributary 8 | At the confluence with Second Broad River | None | +758 | Rutherford County (Unincorporated Areas).
| Approximately 40 feet upstream of Chime Lane | None | +799
Somey Creek | At the confluence with First Broad River | None | +1,112 | Rutherford County (Unincorporated Areas).
| Approximately 400 feet upstream of Camp McCall Road (State Road 1749) | None | +1,231
South Creek | At the confluence with First Broad River | None | +1,075 | Rutherford County (Unincorporated Areas).
| Approximately 1.3 miles upstream of Golden Valley Church Road (State Road 1726) | None | +1,121
Stoney Creek | At the confluence with Second Broad River | None | +974 | Rutherford County (Unincorporated Areas).
| Approximately 1,400 feet upstream of Thermal City Road (State Road 1321) | None | +1,001
Suck Creek (into Broad River) | Approximately 1.1 miles downstream of Kirby Road | None | +769 | Rutherford County (Unincorporated Areas).
| Approximately 300 feet upstream of Kirby Road (State Road 1978) | None | +779
Taylor Creek | At the confluence with Cedar Creek | None | +1,147 | Rutherford County (Unincorporated Areas).
| Approximately 0.5 mile upstream of the confluence of Rosy Branch | None | +2,009
Tributary 1 | At the confluence with Taylor Creek | None | +1,841 | Rutherford County (Unincorporated Areas).
| Approximately 0.6 mile upstream of Bison Meadows | None | +2,535
Webbs Branch | At the confluence with Second Broad River | None | +805 | Town of Forest City
| Approximately 0.4 mile upstream of Railroad | None | +907
Webbs Creek | At the confluence with Second Broad River | None | +789 | Rutherford County (Unincorporated Areas).
| Approximately 340 feet upstream of U.S. Highway 74 | None | +833
West Branch Mountain Creek | At the confluence with East Branch Mountain Creek and Mountain Creek | None | +823 | Rutherford County (Unincorporated Areas).
| Approximately 0.6 mile upstream of Darlington Road (State Road 1351) | None | +884
West Fork Sandy Run | At the Rutherford/Cleveland County boundary | None | +801 | Rutherford County (Unincorporated Areas).
| Approximately 1,000 feet upstream of Hollis Road (State Road 1749) | None | +901
Tributary 7 | At the confluence with West Fork Sandy Run | None | +825 | Rutherford County (Unincorporated Areas).
| Approximately 0.9 mile upstream of the confluence with West Fork Sandy Run | None | +842
* National Geodetic Vertical Datum.
+ North American Vertical Datum.
# Depth in feet above ground.
ADDRESSES
Town of Bostic
Maps are available for inspection at the Bostic Town Hall, 104 Pearidge Road, Bostic, North Carolina.
Send comments to The Honorable Mitch Harrill, Mayor of the Town of Bostic, 177 South Main Street, Bostic, North Carolina 28018.
Town of Forest City
Maps are available for inspection at the Forest City Town Hall, 128 North Powell Street, Forest City, North Carolina.
Send comments to Mr. Charles Summey, II, Forest City Town Manager, P.O. Box 728, Forest City, North Carolina 28043.
Town of Lake Lure
Maps are available for inspection at the Lake Lure Town Hall, 2948 Memorial Highway, Lake Lure, North Carolina.
Send comments to The Honorable James Proctor, Mayor of the Town of Lake Lure, P.O. Box 255, Lake Lure, North Carolina 28746.
Town of Ruth
Maps are available for inspection at the Ruth Town Hall, 199 Northview-Dorsey Street, Ruth, North Carolina.
Send comments to The Honorable Don Baynard, Mayor of the Town of Ruth, 108 Northview-Dorsey Street, Ruth, North Carolina 28139.
Town of Rutherfordton
Maps are available for inspection at the Rutherfordton Town Hall, 129 North Main Street, Rutherfordton, North Carolina.
Send comments to The Honorable Sally Lesher, Mayor of the Town of Rutherfordton, 447 North Washington Street, Rutherfordton, North Carolina.
Town of Spindale
Maps are available for inspection at the Spindale Town Hall, 104 Reveley Street, Spindale, North Carolina.
Send comments to The Honorable Mickey Bland, Mayor of the Town of Spindale, P.O. Box 186, Spindale, North Carolina 28160.
Unincorporated Areas of Rutherford County
Maps are available for inspection at the Rutherford County Building and Inspections Department, 289 North Main Street, Rutherfordton, North Carolina.
Send comments to Mr. John Condrey, Rutherford County Manager, 289 North Main Street, Rutherfordton, North Carolina 28139.
Village of Chimney Rock
Maps are available for inspection at the Village of Chimney Rock Office, 109 Terrace Drive, Chimney Rock, North Carolina.
Send comments to The Honorable Barbara Melisky, Mayor of the Village of Chimney Rock, P.O. Box 300, Chimney Rock, North Carolina 28720.

(Catalog of Federal Domestic Assistance No. 83.100, “Flood Insurance.”)

Dated: April 10, 2007.
David I. Maurstad,
Federal Insurance Administrator of the National Flood Insurance Program, Federal Emergency Management Agency, Department of Homeland Security.

[FR Doc. E7-7593 Filed 4-19-07; 8:45 am]

BILLING CODE 9110-12-P